DEPARTMENT OF DEFENSE

Department of the Air Force

[Docket ID USAF-2009-0047]

Privacy Act of 1974; System of Records

AGENCY: Department of the Air Force, DoD.

ACTION: Notice to amend a system of records.

SUMMARY: The Department of the Air Force proposes to amend a system of records to its inventory of record systems subject to the Privacy Act of 1974 (5 U.S.C. 552a), as amended.

DATES: The changes will be effective on August 19, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 13, 2009.
Morgan E. Frazier,
Alternate OSD Federal Register Liaison Officer, Department of Defense.

F036 AETC F

SYSTEM NAME:

Recruiting Research and Analysis System (June 11, 1997, 62 FR 31793).

CHANGES:

* * * * *

SYSTEM LOCATION:

Delete entry and replace with “Headquarters, Air Force Recruiting Service, 550 D Street, Suite 1, Randolph Air Force Base, TX 78150-4527.

“Air Force Recruiting activities. Official mailing addresses are published as an appendix to the Air Force's compilation of systems of records notices.”

* * * * *

CATEGORIES OF RECORDS IN THE SYSTEM:

Delete entry and replace with “Supervisor's rating, achievement, aptitude, reading, vocational interest and adjustment and temperament inventory scores, Air Force tech training class score, statistics and trend analysis.”

AUTHORITY FOR MAINTENANCE OF THE SYSTEM:

Delete entry and replace with “10 U.S.C. 8013, Secretary of the Air Force; 10 U.S.C. 503, Enlistments; Air Education and Training Command Instruction 36-2002; and E.O. 9397 (SSN).”

* * * * *

SAFEGUARDS:

Delete entry and replace with “Records are maintained in a controlled facility. Records are stored in locked rooms, cabinets, and computers. Access to computerized data is restricted by passwords, which are changed periodically or the use of a Common Access Card (CAC). Access is limited to person(s) responsible with a need to know for servicing the system of record in performance of their official duties and those authorized personnel who are properly screened and cleared.”

* * * * *

F036 AETC F

SYSTEM NAME:

Recruiting Research and Analysis System.

SYSTEM LOCATION:

Headquarters, Air Force Recruiting Service, 550 D Street, Suite 1, Randolph Air Force Base, TX 78150-4527.

Air Force Recruiting activities. Official mailing addresses are published as an appendix to the Air Force's compilation of systems of records notices.

CATEGORIES OF INDIVIDUALS COVERED BY THE SYSTEM:

Air Force enlisted personnel entering active duty. Individuals tested and processed for Air Force enlistment. Potential Air Force enlistees qualified through the Armed Services Vocational Aptitude Battery (ASVAB) high school testing program. Applicants for the Officer Training School. Air Force active duty officer and enlisted personnel.

CATEGORIES OF RECORDS IN THE SYSTEM:

Supervisor's rating, achievement, aptitude, reading, vocational interest, adjustment and temperament inventory scores, Air Force tech training class score, statistics and trend analysis.

AUTHORITY FOR MAINTENANCE OF THE SYSTEM:

10 U.S.C. 8013, Secretary of the Air Force; 10 U.S.C. 503, Enlistments; Air Education and Training Command Instruction 36-2002; and E.O. 9397 (SSN).

PURPOSE(S):

Research statistical reference file used by Headquarters United States Air Force Recruiting Service. Specific uses are to: (1) Evaluate the quality of Air Force military personnel procured by Air Force Recruiting Service; (2) develop a more objective screening process for entry into recruiting duty; and (3) develop opinion-based recommendations for recruiting effort improvements.

ROUTINE USES OF RECORDS MAINTAINED IN THE SYSTEM, INCLUDING CATEGORIES OF USERS AND THE PURPOSES OF SUCH USES:

In addition to those disclosures generally permitted under 5 U.S.C. 552a (b) of the Privacy Act of 1974, these records contained therein may be specifically disclosed outside the DoD as a routine use pursuant to 5 U.S.C. 552a (b) (3) as follows:

The “Blanket Routine Uses” published at the beginning of the Air Force's compilation of record system notices apply to this system.

POLICIES AND PRACTICES FOR STORING, RETRIEVING, ACCESSING, RETAINING, AND DISPOSING OF RECORDS IN THE SYSTEM:

STORAGE:

Records are stored in file folders, in computers and on computer output products.

RETRIEVABILITY:

Retrieved by Social Security Number, study control number or name.

SAFEGUARDS:

Records are maintained in a controlled facility. Records are stored in locked rooms, cabinets, and computers. Access to computerized data is restricted by passwords, which are changed periodically or the use of a Common Access Card (CAC). Access is limited to person(s) responsible with a need to know for servicing the system of record in performance of their official duties and those authorized personnel who are properly screened and cleared.

RETENTION AND DISPOSAL:

Records are retained until no longer needed. ASVAB records are destroyed after two months. Records are destroyed by tearing into pieces, shredding, pulping, macerating or burning. Computer records are destroyed by erasing, deleting or overwriting.

SYSTEM MANAGER(S) AND ADDRESS:

Director of Recruiting Operations, Headquarters United States Air Force Recruiting Service, 550 D Street West, Randolph Air Force Base, TX 78150-4527.

NOTIFICATION PROCEDURES:

Individuals seeking to determine whether this system of records contains information on themselves should address inquiries to the Director of Recruiting Operations, Headquarters United States Air Force Recruiting Service, 550 D Street West, Randolph Air Force Base, TX 78150-4527.

Social Security Number (SSN) and full name are required to determine if the system contains a record relative to any specific individual. Valid proof of identity is required.

RECORD ACCESS PROCEDURES:

Individuals seeking to access records about themselves contained in this system should address requests to the Director of Recruiting Operations, Headquarters United States Air Force Recruiting Service, 550 D Street West, Randolph Air Force Base, TX 78150-4527.

Social Security Number (SSN) and full name are required to determine if the system contains a record relative to any specific individual. Valid proof of identity is required.

CONTESTING RECORD PROCEDURES:

The Air Force rules for accessing records, and for contesting contents and appealing initial agency determinations are published in Air Force Instruction 37-132; 32 CFR part 806b; or may be obtained from the system manager.

RECORD SOURCE CATEGORIES:

Information obtained from individuals, supervisors, from Air Force Technical Training Centers and from the Recruiting Activities Management Support System (RAMSS).

EXEMPTIONS CLAIMED FOR THE SYSTEM:

None.

[FR Doc. E9-17151 Filed 7-17-09; 8:45 am]

BILLING CODE 5001-06-P